FEDERAL HOUSING FINANCE BOARD

[No. 2004-N-02]

Proposed Collection; Comment Request

AGENCY: Federal Housing Finance Board.

ACTION: Notice.

SUMMARY: In accordance with the requirements of the Paperwork Reduction Act of 1995, the Federal Housing Finance Board (Finance Board) is seeking public comments concerning a three-year extension by the Office of Management and Budget (OMB) of the information collection entitled “Affordable Housing Program (AHP)”.

DATES: Interested persons may submit comments on or before April 19, 2004.

ADDRESSES: Send comments by e-mail to comments@fhfb.gov, by facsimile to 202/408-2580, or by regular mail to the Federal Housing Finance Board, 1777 F Street, NW, Washington, DC 20006, ATTN: Public Comments. Comments will be available on the Finance Board Web site at http://www.fhfb.gov/pressroom/pressroom_regs.htm.

FOR FURTHER INFORMATION CONTACT: Charles E. McLean, Jr., Associate Director, Community Investment and Affordable Housing Division, Office of Supervision, by telephone at 202/408-2537 or by electronic mail at mcleanc@fhfb.gov, or Melissa L. Allen, Program Analyst, Community Investment and Affordable Housing Division, Office of Supervision, by telephone at 202/408-2524 or by electronic mail at allenm@fhfb.gov, or by regular mail at the Federal Housing Finance Board, 1777 F Street, NW, Washington, DC 20006.

SUPPLEMENTARY INFORMATION:

A. Need for and Use of the Information Collection

Section 10(j) of the Federal Home Loan Bank Act (Bank Act) requires the Federal Housing Finance Board (Finance Board) to promulgate regulations under which the 12 Federal Home Loan Banks (FHLBanks) must establish an Affordable Housing Program (AHP) to make subsidized advances to members engaged in lending for long term, low- and moderate-income, owner-occupied and affordable rental housing at subsidized interest rates. See 12 U.S.C. 1430(j). Section 10(j) also establishes the standards and requirements for making subsidized AHP advances to FHLBank members. Part 960 of the Finance Board regulations implements the statutory requirements and authorizes the FHLBanks to make AHP funding decisions. See 12 CFR part 951.

The information collection contained in part 951 is used by the FHLBanks to determine whether an AHP applicant satisfies the statutory and regulatory requirements to receive subsidized advances or direct subsidies under the AHP. The Finance Board requires and uses the information, through examination of the FHLBanks, to ensure that FHLBank funding decisions, and the use of the funds awarded, are consistent with statutory and regulatory requirements.

The OMB number for the information collection is 3069-0006. The OMB clearance for the information collection expires on June 30, 2004.

The likely respondents include applicants for AHP funding.

B. Burden Estimate

The Finance Board estimates the total annual average number of respondents at 7,720, with 1.39 responses per respondent. The estimate for the average hours per response is 6.1 hours. The estimate for the total annual hour burden is 65,461 hours (7,720 respondents × 1.39 responses per respondent × 6.1 hours per response).

C. Comment Request

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

Dated: February 12, 2004.
By the Federal Housing Finance Board.
Donald Demitros,
Chief Information Officer.

[FR Doc. 04-3461 Filed 2-17-04; 8:45 am]

BILLING CODE 6725-01-P